DEPARTMENT OF THE INTERIOR

Bureau of Land Management

[LLIDI00000-L10200000-MJ0000]

Notice of Public Meeting, Idaho Falls District Resource Advisory Council Meeting

AGENCY: Bureau of Land Management, Interior.

ACTION: Notice of Public Meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The Idaho Falls District RAC will meet in Idaho Falls, Idaho on September 18-19, 2012 for a two-day meeting at the Upper Snake Field Office, 1405 Hollipark Drive, Idaho Falls, Idaho. The first day will begin at 10:30 a.m. and adjourn at 4:30 p.m. The second day will begin at 8:30 a.m. and adjourn around 12:30 p.m.

SUPPLEMENTARY INFORMATION: The 15-member Council advises the Secretary of the Interior, through the BLM, on a variety of planning and management issues associated with public land management in the BLM Idaho Falls District, which covers eastern Idaho.

Items on the agenda will include an overview of current issues affecting the BLM, review and approval of past meeting minutes and a public comment period. Following those discussions, the Council will review the Fisher Bottoms acquisition along the South Fork of the Snake River and travel to the site to discuss and provide the field office with input on how to preserve the site for the public. At 8:30 a.m. on September 19, the RAC will meet again to discuss the sage-grouse amendment process, domestic/bighorn sheep issues, current litigation, the Challis wild horse gather, and review the Curlew/Deep Creeks Travel Management plan. Agenda items and location may change due to weather and other environmental circumstances.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: Sarah Wheeler, RAC Coordinator, Idaho Falls District, 1405 Hollipark Dr., Idaho Falls, ID 83401. Telephone: (208) 524-7550. Email: sawheeler@blm.gov.

Dated: August 9, 2012.
Joe Kraayenbrink,
District Manager, Idaho Falls District.

[FR Doc. 2012-20219 Filed 8-16-12; 8:45 am]

BILLING CODE 4310-GG-P